DEPARTMENT OF COMMERCE

International Trade Administration

[A-489-815]

Light-Walled Rectangular Pipe and Tube From Turkey: Final Results of Antidumping Duty Administrative Review; 2016-2017

AGENCY: Enforcement and Compliance, International Trade Administration, Department of Commerce.

SUMMARY: On February 12, 2018, the Department of Commerce (Commerce) published the preliminary results of the 2016-2017 administrative review of the antidumping duty order on light-walled rectangular pipe and tube (LWRPT) from Turkey. Although invited to do so, interested parties did not comment on the preliminary results of this review. Therefore, we have adopted the preliminary results in these final results of the review.

DATES: Applicable May 25, 2018.

FOR FURTHER INFORMATION CONTACT: Jonathan Hill, AD/CVD Operations, Office IV, Enforcement & Compliance, International Trade Administration, U.S. Department of Commerce, 1401 Constitution Avenue NW, Washington, DC 20230; telephone: (202) 482-3518.

Background

On February 12, 2018, Commerce published its Preliminary Results of the review of the antidumping duty order on LWRPT from Turkey covering the period of review (POR) May 1, 2016 through April 30, 2017.¹ No parties commented on the Preliminary Results.

¹ See Light-Walled Rectangular Pipe and Tube from Turkey: Preliminary Results and Partial Rescission of Antidumping Duty Administrative Review; 2016-2017, 83 FR 5987 (February 12, 2018) (Preliminary Results).

Scope of the Order

The merchandise covered by the antidumping order is certain welded carbon quality light-walled steel pipe and tube, of rectangular (including square) cross section, having a wall thickness of less than 4 millimeters. The merchandise subject to the order is classified in the Harmonized Tariff Schedule of the United States at subheadings 7306.61.50.00 and 7306.61.70.60.²

² For a complete description of the scope of the order see “Decision Memorandum for Preliminary Results of the 2016-2017 Antidumping Duty Administrative Review of Light-Walled Rectangular Pipe and Tube from Turkey,” dated February 5, 2018 (Preliminary Decision Memorandum).

Analysis

In the Preliminary Results, we determined that Agir Haddecilik A.S. (Agir) did not make sales of subject merchandise at prices below normal value during the period May 1, 2016, through April 30, 2017.³ As no parties commented on the Preliminary Results, we are adopting the decisions in the Preliminary Decision Memorandum in these final results of review. For additional details, see the Preliminary Decision Memorandum, which is a public document and is on file electronically via Enforcement and Compliance's Antidumping and Countervailing Duty Centralized Electronic Service System (“ACCESS”). ACCESS is available to registered users at http://access.trade.gov and in the Central Records Unit, room B8024 of the main Department of Commerce building. In addition, a complete version of the Preliminary Decision Memorandum can be accessed directly on the internet at http://enforcement.trade.gov/frn/index.html. The signed and the electronic versions of the Preliminary Decision Memorandum are identical in content.

³ See Preliminary Decision Memorandum.

Final Results of Review

As a result of this review, Commerce determines that the following weighted-average dumping margin exists for Agir for the period May 1, 2016, through April 30, 2017:

Manufacturer/exporter | Weighted-average margin (percent)
Agir Haddecilik A.S. | 0.00

Assessment Rates

Pursuant to section 751(a)(2)(C) of the Tariff Act of 1930, as amended (the Act), and 19 CFR 351.212(b), we have determined, and U.S. Customs and Border Protection (CBP) shall assess, antidumping duties on all appropriate entries of subject merchandise in accordance with the final results of this review.⁴ We intend to issue assessment instructions to CBP 15 days after the publication date of this notice of the final results of this review. Because we calculated a weighted-average dumping margin of zero for Agir, we will instruct CBP to liquidate the appropriate entries without regard to antidumping duties. In accordance with Commerce's “automatic assessment” practice, for entries of subject merchandise during the POR produced by Agir for which it did not know that the merchandise was destined for the United States, we will instruct CBP to liquidate those entries at the all-others rate if there is no rate for the intermediate company(ies) involved in the transaction.

⁴ In these final results, Commerce applied the assessment rate calculation method adopted in Antidumping Proceedings: Calculation of the Weighted-Average Dumping Margin and Assessment Rate in Certain Antidumping Proceedings: Final Modification, 77 FR 8101 (February 14, 2012) (Final Modification for Reviews).

Cash Deposit Requirements

The following cash deposit requirements will be effective for all shipments of subject merchandise entered, or withdrawn from warehouse, for consumption on or after the publication date of this notice of the final results of this review, as provided by section 751(a)(2)(C) of the Act: (1) The cash deposit rate for Agir will be equal to the weighted-average dumping margin established in the final results of this review; (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 27.04 percent ad valorem, the all-others rate established in the less-than-fair-value investigation.⁵ These cash deposit requirements, when imposed, shall remain in effect until further notice.

⁵ See Notice of Final Determination of Sales at Less Than Fair Value: Light-Walled Rectangular Pipe and Tube from Turkey, 73 FR 19814 (April 11, 2008).

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751(a)(1) and 777(i) of the Act and 19 CFR 351.213 and 19 CFR 351.221(b)(5).

Dated: May 17, 2018.
Gary Taverman,
Deputy Assistant Secretary for Antidumping and Countervailing Duty Operations, performing the non-exclusive functions and duties of the Assistant Secretary for Enforcement and Compliance.

[FR Doc. 2018-11302 Filed 5-24-18; 8:45 am]

BILLING CODE 3510-DS-P